FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 18, 2022.

A. Federal Reserve Bank of Chicago (Colette A. Fried, Assistant Vice President) 230 South LaSalle Street, Chicago, Illinois 60690-1414:

1. The Timothy A. Sexton Revocable 2021 Trust, Timothy A. Sexton, as trustee, both of Randalia, Iowa; the Thomas J. Sexton Trust, Thomas J. Sexton, as trustee, the Mark J. Sexton Grantor Trust, Mark J. Sexton, as trustee, the Jennifer S. Walther Grantor Trust, Jennifer S. Walther, as trustee, all of St. Paul, Minnesota; and the Andrew G. Sexton Grantor Trust, St. Paul, Minnesota, Andrew G. Sexton, as trustee, Cedar Falls, Iowa; to become members of the Sexton Family Control Group, a group acting in concert, to retain voting shares of Britt Bancshares, Inc., St. Paul, Minnesota, and thereby indirectly retain voting shares of First State Bank, Britt, Iowa.

B. Federal Reserve Bank of Minneapolis (Chris P. Wangen, Assistant Vice President) 90 Hennepin Avenue, Minneapolis, Minnesota 55480-0291: Comments can also be sent electronically to MA@mpls.frb.org:

1. David Schornack and Denise Schornack, both of Perham, Minnesota; to retain voting shares of Cyrus Bancshares, Inc., Alexandria, Minnesota, and thereby indirectly retain voting shares of Hometown Community Bank, Cyrus, Minnesota.

Board of Governors of the Federal Reserve System, March 29, 2022.
Michele Taylor Fennell,
Deputy Associate Secretary of the Board.

[FR Doc. 2022-06913 Filed 3-31-22; 8:45 am]

BILLING CODE P